DEPARTMENT OF THE TREASURY

Office of the Comptroller of the Currency

Office of Thrift Supervision

FEDERAL RESERVE SYSTEM

FEDERAL DEPOSIT INSURANCE CORPORATION

NATIONAL CREDIT UNION ADMINISTRATION

Financial Crimes Enforcement Network; Agency Information Collection Activities; Submission for OMB Review; Comment Request; Suspicious Activity Report

ACTION: Submission for OMB review; joint comment request.

SUMMARY: In accordance with the requirements of the Paperwork Reduction Act of 1995, FinCEN, OCC, OTS, FDIC, and NCUA hereby give notice that they plan to submit to the Office of Management and Budget (OMB) requests for review of the information collections described below. Pursuant to 5 CFR 1320.16 the Board of Governors of the Federal Reserve System (the Board) hereby announces the Board's approval of the information collection and plan to submit its supporting documentation to OMB. The above-mentioned agencies are collectively referred to as the “agencies” throughout this notice.

On November 4, 2002, the agencies, requested public comment on the minor revision of the Suspicious Activity Report (SAR). The OCC also requested comments on all information collections contained in 12 CFR part 21. The agencies are making the changes proposed and are making an additional change suggested by the commenters. None of the changes will impose substantial additional burden on respondents.

DATES: Written comments should be received on or before April 10, 2003.

ADDRESSES: Interested parties are invited to submit written comments to any or all of the agencies. All comments, which should refer to the OMB control number(s), will be shared among the agencies. Direct all written comments as follows:

FinCEN: Financial Crimes Enforcement Network, Department of the Treasury, P.O. Box 39, Vienna, VA 22183, Attention: 1506-0001, Revised SAR, Financial Institutions. Comments also may be submitted by electronic mail to the following Internet address: regcomments@fincen.treas.gov with the caption in the body of the text, “Attention: 1506-0001, Revised SAR, Financial Institutions”.

OCC: Public Information Room, Office of the Comptroller of the Currency, 250 E Street, SW., Mail stop 1-5, Attention: 1557-0180-2, Washington, DC 20219. In addition, comments may be sent by facsimile transmission to (202) 874-4448, or by electronic mail to regs.comments@occ.treas.gov. Due to delays in paper mail in the Washington area, commenters are encouraged to submit comments by fax or e-mail. You can make an appointment to inspect comments by calling (202) 874-5043.

OTS: Information Collection Comments, Chief Counsel's Office, Office of Thrift Supervision, 1700 G Street, NW., Washington, DC 20552; send a facsimile transmission to (202) 906-6518; or send an e-mail to infocollection.comments@ots.treas.gov. OTS will post comments and the related index on the OTS Internet site at http://www.ots.treas.gov. In addition, interested persons may inspect comments at the Public Reading Room, 1700 G Street, NW., by appointment. To make an appointment, call (202) 906-5922, send an e-mail to publicinfo@ots.treas.gov, or send a facsimile transmission to (202) 906-7755.

Board: Comments may be mailed to Ms. Jennifer J. Johnson, Secretary, Board of Governors of the Federal Reserve System, 20th Street and Constitution Avenue, NW., Washington, DC 20551. However, because paper mail in the Washington area and at the Board of Governors is subject to delay, please consider submitting your comments by e-mail to regs.comments@federalreserve.gov, or faxing them to the office of the Secretary at 202-452-3819 or 202-452-3102. Comments addressed to Ms. Johnson may also be delivered to the Board's mail facility in the West Courtyard between 8:45 a.m. and 5:15 p.m., located on 21st Street between Constitution Avenue and C Street, NW. Members of the public may inspect comments in Room MP-500 between 9 a.m. and 5 p.m. on weekdays pursuant to 261.12, except as provided in 261.14, of the Board's Rules Regarding Availability of Information, 12 CFR 261.12 and 261.14.

FDIC: Written comments should be addressed to Robert E. Feldman, Executive Secretary, Attention: Comments/Legal, Federal Deposit Insurance Corporation, 550 17th Street, NW, Washington, DC 20429. Comments may be hand-delivered to the guard station at the rear of the 550 17th Street Building (located on F Street), on business days between 7 a.m. and 5 p.m. [FAX number (202) 898-3838; Internet address: comments@fdic.gov]. Comments may be inspected and photocopied in the FDIC Public Information Center, Room 100, 801 17th Street, NW., Washington, DC between 9 a.m. and 4:30 p.m., on business days.

NCUA: Clearance Officer: Mr. Neil M. McNamara, (703) 518-6447, National Credit Union Administration, 1775 Duke Street, Alexandria, VA 22314-3428, Fax No. 703-518-6489, E-mail: mcnamara@ncua.gov.

OMB: Joseph F. Lackey, Jr., Office of Information and Regulatory Affairs, Office of Management and Budget, New Executive Office Building, Room 10235, Washington, DC 20503.

FOR FURTHER INFORMATION CONTACT: You may request additional information or a copy of the collection by contacting:

FinCEN: Russell Stephenson, 202-354-6400 (ORP);

OCC: Jessie Dunaway, OCC Clearance Officer, or Camille Dixon, Legislative and Regulatory Activities Division, Office of the Comptroller of the Currency, 250 E Street, SW., Washington DC 20219, (202) 874-5090.

OTS: Richard Stearns, Enforcement Deputy Counsel, Office of Enforcement, Office of Thrift Supervision, 1700 G Street, NW., Washington, DC 20552, (202) 906-7966.

Board: Herbert A. Biern, Senior Associate Director, Division of Banking Supervision and Regulation, (202) 452-2620. For users of Telecommunications Devices for the Deaf (TDD) only, contact 202-263-4869, Board of Governors of the Federal Reserve System, 20th Street and Constitution Avenue, NW., Washington, DC 20551.

FDIC: Tamara R. Manly, Legal Division, FDIC, 550 17th Street, NW., Washington, DC 20429, (202) 898-7453.

NCUA: NCUA Clearance Officer, Mr. Neil M. McNamara, (703) 518-6447, or John K. Ianno, Office of General Counsel, (703) 518-6540.

SUPPLEMENTARY INFORMATION: Title: Suspicious Activity Report. (The OCC is renewing all information collections covered under the information collection titled: “(MA)-Minimum Security Devices and Procedures, Reports of Suspicious Activities, and Bank Secrecy Act Compliance Program (12 CFR 21).”) FinCEN is renewing 31 CFR 103.18.

OMB Numbers

FinCEN: 1506-0001.

OCC: 1557-0180.

OTS: 1550-0003.

FDIC: 3064-0077.

Board: 7100-0212.

NCUA: 3133-0094.

Form Numbers

FinCEN: TD F 90-22.47.

OCC: None.

OTS: 1601.

Board: FR 2230.

FDIC: 6710/06.

NCUA: 2362.

Abstract: In 1985, the agencies issued procedures to be used by banks, thrifts, credit unions, their holding companies, and certain other financial institutions operating in the United States to report known or suspected criminal activities to the appropriate law enforcement agencies and the agencies. Beginning in 1994, the agencies completely redesigned the reporting process. This redesign resulted in the existing SAR, which became effective in April 1996.¹

¹ The report is authorized by the following rules: 31 CFR 103.21 (FinCEN); 12 CFR 21.11 (OCC); 12 CFR 563.180 (OTS); 12 CFR 208.20 (Board); 12 CFR 353.3 (FDIC); 12 CFR 748.1 (NCUA). The rules were issued under the authority of 31 U.S.C. 5318(g) (FinCEN); 12 U.S.C. 93a, 1818, 1881-84, 3401-22, 31 U.S.C. 5318 (OCC); 12 U.S.C. 1463 and 1464 (OTS); 12 U.S.C. 324, 334, 6114a, 1844(b) and (c), 3015(c)(2) and 3106(a) (Board); 12 U.S.C. 93a, 1818, 1881-84, 3401-22 (FDIC); 12 U.S.C. 1766(a), 1789(a) (NCUA).

Agencies Current Actions: FinCEN and the financial regulators issued a joint initial Federal Register notice (60-day notice) regarding the revised SAR on November 4, 2002, (67 FR 67239). A copy of the revised SAR, together with the instructions to the form, was published as part of the 60-day notice. The comments received in response to the 60-day notice (discussed in the next paragraph) were carefully considered. This notice proposed three minor revisions to the form. In Part III Suspicious Activity Information, block 35 Summary characterization of suspicious activity, two new check boxes would be added, one to indicate “Terrorist Financing” and another to indicate “Identity Theft.” The third revision is an update to the “Safe Harbor” wording in the instructions, to reflect changes by the USA Patriot Act. These additions will improve the form's usefulness to law enforcement and the agencies.

Comments Received and Agency Action Taken. The agencies received five generally favorable comment letters from two banking trade associations, a credit union trade association, a bank holding company, and a credit card bank. The comments and recommendations for the most part involved policy issues rather than comments affecting the form's data collection elements. Four commenters suggested that examples of suspicious activities be included with the form. Rather than including numerous examples on the form itself, FinCEN and the financial regulators decided to include a reference to the SAR Activity Review in the instructions. The SAR Activity Review is readily available on FinCEN's Web site (http://www.fincen.gov), contains examples and definitions, and is updated regularly. This addition was made to Part V, the “Narrative.” One commenter suggested alternate language for the safe harbor provisions. After careful review, FinCEN and the financial regulators elected to retain the language presented in the initial Federal Register notice. One commenter recommended expanding the reporting categories in Part III, block 35 and that FinCEN address the issue of supplemental SARs. This commenter also requested clarification on whether transactions that are reported to the Office of Foreign Assets Control (OFAC) should also be reported on a SAR. This commenter's recommendations have merit and will be taken under consideration by FinCEN and the financial regulators for possible implementation at a later date.

Special Instructions: The SAR form included in this final Federal Register notice is effective July 1, 2003. The SAR form included in this Federal Register is for training and system configuration use only. Do not use this form to report suspicious activity before July 1, 2003. Depository institutions should use the current SAR dated June 2000, until June 30, 2003.

Depository institutions reporting possible terrorist financing suspicious activity must file a SAR as indicated above, but should also contact FinCEN's Financial Institutions Hotline (866) 556-3974 to report the activity.

For individual copies of the form, call FinCEN's Regulatory Helpline (800) 949-2732 after April 15, 2003, for individual copies of the form. For information about obtaining bulk copies of the form, or access to a fill-in version, visit the IRS's Internet Web site at http://www.irs.gov after April 15, 2003. Copies of both the fill-in version and individual copies may also be obtained on the FinCEN Web site at http://www.fincen.gov after April 15, 2003.

Type of Review: Revision of a currently approved collection.

Affected Public: Businesses, for-profit institutions, and non-profit institutions.

Estimated Number of Respondents

FinCEN: 22,600.²

² Many respondents included in this estimate are also counted in the agencies' estimates.

OCC: 2,252.

OTS: 990.

Board: 10,000.

FDIC: 8,000.

NCUA: 9,300.

Estimated Total Annual Responses

FinCEN: 637,500.

OCC: 54,172.

OTS: 20,804.

Board: 11,162.

FDIC: 16,018.

NCUA: 2,961.

Estimated Total Annual Burden

The agencies have estimated 30 minutes per form.

FinCEN: 31,750 hours.³

³ A respondent need only file one form. The estimated burden per form is 30 minutes; this estimate does not allocate time between agencies when copies of the form are filed to satisfy the rules of more than one agency.

OCC: 32,906 hours.

OTS: 10,402 hours.

Board: 5,581 hours.

FDIC: 8,009 hours.

NCUA: 1,480 hours.

An agency may not conduct or sponsor, and a person is not required to respond to, a collection of information unless the collection of information displays a valid OMB control number. A respondent must retain the SAR and supporting documentation for five years. Generally, information collected pursuant to the Bank Secrecy Act is confidential, but may be shared as provided by law with regulatory and law enforcement authorities.

Request for Comments: Comments are invited on:

(a) Whether the collection of information is necessary for the proper performance of the functions of the agencies, including whether the information shall have practical utility;

(b) The accuracy of the agencies' estimate of the burden of the collection of information;

(c) Ways to enhance the quality, utility, and clarity of the information to be collected;

(d) Ways to minimize the burden of the collection of information on respondents, including through the use of automated collection techniques or other forms of information technology; and

(e) Estimates of capital or start-up costs and costs of operation, maintenance and purchase of services to provide information.

Dated: March 3, 2003.
James F. Sloan,
Director, Financial Crimes Enforcement Network.

Dated: February 20, 2003.
Mark J. Tenhundfeld,
Assistant Director, Legislative and Regulatory Activities Division, Office of the Comptroller of the Currency.

Dated: February 26, 2003.
Deborah Dakin,
Deputy Chief Counsel, Regulations and Legislation Division, Office of Thrift Supervision.

Board of Governors of the Federal Reserve System, February 24, 2003.
Jennifer J. Johnson,
Secretary of the Board, Board of Governors of the Federal Reserve System.

Dated at Washington, DC, this 5th day of February, 2003.
By Order of the Board of Directors.
Federal Deposit Insurance Corporation.
Robert E. Feldman,
Executive Secretary.

By the National Credit Union Administration Board on February 24, 2003.
Becky Baker,
Secretary of the Board.

BILLING CODE 4810-02-P

[FR Doc. 03-5649 Filed 3-10-03; 8:45 a.m.]

BILLING CODE 4810-02-C